DEPARTMENT OF ENERGY

Federal Energy Regulatory Commission

[Docket No. RP03-395-000]

CMS Trunkline Gas Company, LLC; Notice of Proposed Changes in FERC Gas Tariff

May 5, 2003.

Take notice that on April 30, 2003, CMS Trunkline Gas Company, LLC (Trunkline) tendered for filing as part of its FERC Gas Tariff, Second Revised Volume No. 1, the following revised tariff sheets to be effective June 1, 2003:

Second Revised Sheet No. 5.

Second Revised Sheet No. 6.

Second Revised Sheet No. 7.

Second Revised Sheet No. 8.

Second Revised Sheet No. 9.

Trunkline states that the purpose of this filing, made in accordance with the provisions of Section 154.106 of the Commission's Regulations, is to revise the tariff maps to reflect changes in the pipeline facilities and the points at which service is provided. Trunkline indicates that it is filing these general location maps as Non-Internet Public documents pursuant to instructions in Order No. 630.

Trunkline states that copies of this filing are being served on all affected customers and applicable state regulatory agencies.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: May 12, 2003.

Magalie R. Salas,
Secretary.

[FR Doc. 03-11665 Filed 5-9-03; 8:45 am]

BILLING CODE 6717-01-P